OFFICE OF PERSONNEL MANAGEMENT

Proposed Collection; Comments Request for Review of an Expiring Information Collection: OPM Form 1203-AW, Qualifications & Availability Form C, OPM Form 1203-FX, Qualifications & Availability Form C, and OPM Form 1203-EFX, Qualifications and Availability Form EZ

AGENCY: Office of Personnel Management.

ACTION: Notice.

SUMMARY: In accordance with the Paperwork Reduction Act of 1995 (Pub. L. 104-13, May 22, 1995), this notice announces that the Office of Personnel Management (OPM) intends to submit to the Office of Management and Budget a request for review of an expiring Form for information collection. The OPM Form 1203-AW, Qualifications & Availability Form C, is an optical scan form designed to collect applicant information and qualifications in a format suitable for automated processing and to create applicant records for an automated examining system. OPM uses the form to carry out its responsibility for open competitive examining for admission to the competitive service in accordance with 5 U.S.C. section 3304. The OPM Form 1203-FX, Qualifications & Availability Form C, and the OPM Form 1203-EFX, Qualifications and Availability Form EZ, are used to collect applicant information in a format suitable for automated processing, electronic transmission, and reproduction using a laser printer.

Approximately 500,000 of the OPM Form 1203 are completed annually. The public burden of information collection is estimated to vary from 20 minutes to 45 minutes to complete this form including time for reviewing instructions, gathering the data needed, and completing and reviewing entries. The average time to complete this form is 30 minutes. The annual estimated burden is 225,000 hours.

Comments on this proposed reinstatement are particularly invited on:

• Whether this collection of information is necessary for the proper performance of functions of OPM, and whether it will have practical utility;

• Whether our estimate of the public burden of this collection of information is accurate, and is based on valid assumptions and methodology; and

• Ways in which we can minimize the burden of the collection of information on those who are to respond, through the use of the appropriate technological collection techniques or other forms of information technology.

For copies of this proposal, contact Mary Beth Smith-Toomey on 202-606-8358 or e-mail at mbtoomey@opm.gov.

DATES: Comments on this proposal should be received on or before October 5, 2001.

ADDRESSES: Send or deliver comments to—U.S. Office of Personnel Management, Employment Service, ATTN: Tim Firlie, 1900 E Street, NW., Room 1425, Washington, DC 20415-9820.

Office of Personnel Management.
Kay Coles James,
Director.

[FR Doc. 01-19551 Filed 8-3-01; 8:45 am]

BILLING CODE 6325-38-P